DEPARTMENT OF THE INTERIOR

Fish and Wildlife Service

[FWS-R5-ES-2011-N248; [50120-1112-0000-F2]

Draft Environmental Assessment, Incidental Take Plan, and Application for an Incidental Take Permit; Maine Department of Inland Fisheries and Wildlife's Statewide Furbearer Trapping Program; Correction

AGENCY: Fish and Wildlife Service, Interior.

ACTION: Notice of availability; announcement of public meeting.

SUMMARY: On November 9, 2011, we, the U.S. Fish and Wildlife Service (Service), published a notice of availability of a draft environmental assessment (EA) and an application from the Maine Department of Inland Fisheries and Wildlife (MDIFW) for an incidental take permit under the Endangered Species Act of 1973, as amended (ESA), for public comment. We also announced public meetings. However, we made an error in the end date we gave for public comments. This notice corrects that date error.

DATES: To ensure consideration, we must receive your written comments by February 7, 2012.

ADDRESSES: Send comments by U.S. mail to Attn: Lynx HCP, Laury Zicari, Field Supervisor, U.S. Fish and Wildlife Service, Maine Field Office, 17 Godfrey Drive, Suite #2, Orono, ME 04473; or via electronic mail to hcpmainetrapping@fws.gov.

SUPPLEMENTARY INFORMATION: Pursuant to section 10(c) of the ESA (16 U.S.C. 1531 et seq.) and NEPA regulations (40 CFR 1506.6), we opened a public comment period for a draft EA regarding an application from the MDIFW for an incidental take permit in a November 9, 2011, Federal Register notice (76 FR 69758). The notice had an incorrect end date for the comment period. Please see the DATES section for our corrected comment period end date.

For background information, where to obtain documents for review, areas to focus on when providing public comments, and dates of public meetings, see our earlier notice.

Authority: This notice is provided pursuant to section 10(c) of the ESA (16 U.S.C. 1531 et seq.) and NEPA regulations (40 CFR 1506.6).

Dated: November 22, 2011.
Margaret T. Kolar,
Acting Regional Director, Northeast Region.

[FR Doc. 2011-30944 Filed 11-30-11; 8:45 am]

BILLING CODE 4310-55-P